DEPARTMENT OF ENERGY

[OE Docket No. PP-334]

Notice of Intent To Prepare an Environmental Impact Statement; Energia Sierra Juarez U.S. Transmission, LLC

AGENCY: Department of Energy (DOE).

ACTION: Notice of Intent to Prepare an Environmental Impact Statement (EIS).

SUMMARY: The Department of Energy (DOE) announces its intention to prepare an EIS on the proposed Federal action of granting a Presidential permit to construct a new electric transmission line across the U.S.-Mexico border in southeastern California. DOE has determined that issuance of a Presidential permit for the proposed project would constitute a major Federal action that may have a significant effect upon the environment within the meaning of the National Environmental Policy Act of 1969 (NEPA). For this reason, DOE intends to prepare an EIS entitled Energia Sierra Juarez Transmission Line Environmental Impact Statement (DOE/EIS-0414) to address potential environmental impacts from the proposed action and reasonable alternatives. The EIS will be prepared in compliance with NEPA and applicable regulations, including DOE NEPA implementing regulations at 10 CFR Part 1021. Because of previous public participation activities, DOE does not plan to conduct additional scoping meetings for this EIS. However, any timely written comments submitted will be considered by DOE in determining the scope of the EIS.

DATES: As discussed below, the public participation process that DOE conducted following publication of a notice of intent to prepare an environmental assessment will serve as the scoping for this EIS. DOE will consider any additional comments received or postmarked by March 27, 2009 in defining the scope of the EIS. Comments received or postmarked after that date will be considered to the extent practicable.

ADDRESSES: Comments on the scope of the EIS and requests to be added to the document mailing list should be addressed to: Dr. Jerry Pell, Office of Electricity Delivery and Energy Reliability (OE-20), U.S. Department of Energy, 1000 Independence Avenue, SW., Washington, DC 20585; by electronic mail to Jerry.Pell@hq.doe.gov; or by facsimile to 202-318-7761.

For general information on the DOE NEPA process contact: Ms. Carol M. Borgstrom, Director, Office of NEPA Policy and Compliance (GC-20), U.S. Department of Energy, 1000 Independence Avenue, SW., Washington, DC 20585; or by facsimile at 202-586-7031.

FOR FURTHER INFORMATION CONTACT: Dr. Jerry Pell, 202-586-3362, or Jerry.Pell@hq.doe.gov. For general information on the DOE NEPA process, contact Ms. Carol M. Borgstrom at 202-586-4600 or leave a message at 800-472-2756.

SUPPLEMENTARY INFORMATION: Executive Order (EO) 10485, as amended by EO 12038, requires that a Presidential permit be issued by DOE before electric transmission facilities may be constructed, operated, maintained, or connected at the U.S. international border. The EO provides that a Presidential permit may be issued after a finding that the proposed project is consistent with the public interest and after favorable recommendations from the U.S. Departments of State and Defense. In determining consistency with the public interest, DOE considers the environmental impacts of the proposed project under NEPA, determines the project's impact on electric reliability (including whether the proposed project would adversely affect the operation of the U.S. electric power supply system under normal and contingency conditions), and considers any other factors that DOE may find relevant to the public interest. The regulations implementing the EO have been codified at 10 CFR 205.320-205.329. DOE's issuance of a Presidential permit indicates that there is no Federal objection to the project, but does not mandate that the project be undertaken.

Energia Sierra Juarez U.S. Transmission, LLC (ESJ, formerly Baja Wind U.S. Transmission, LLC), has applied to DOE's Office of Electricity Delivery and Energy Reliability (OE) for a Presidential permit to construct either a double-circuit 230,000-volt (230-kV) or a single-circuit 500-kV transmission line on either lattice towers or steel monopoles. ESJ's proposed transmission line would connect wind turbines (the La Rumorosa Project) to be located in the vicinity of La Rumorosa, Baja California, Mexico, to the existing Southwest Powerlink (SWPL) 500-kV transmission line. The ESJ Presidential permit application, including associated maps and drawings, can be downloaded in its entirety from the DOE program Web site at http://www.oe.energy.gov/permits_pending.htm (see PP-334).

One portion of the proposed transmission project would consist of two miles of transmission located in Mexico that would be constructed, owned, operated, and maintained by a subsidiary of Sempra Energy Mexico and would be subject to the permitting requirements of the Mexican Government. The remaining portion of the proposed transmission project would consist of a one-mile transmission line constructed by ESJ within the United States on private land. The entire electrical output of the La Rumorosa Project (1250 megawatts) would be dedicated to the U.S. market and delivered using the proposed international transmission line. For reasons discussed below, the EIS will consider only impacts that occur inside the United States.

ESJ's proposed transmission line would connect to a substation to be constructed by the San Diego Gas & Electric Company in response to requests by power suppliers to connect to the SWPL. The substation, to be known as the East County Substation, would be located just south of the SWPL right-of-way near the community of Jacumba, California, and would contain equipment for accepting interconnections at both the 230-kV and the 500-kV level. The 230-kV connection equipment would be located just to the west of the 500-kV connection equipment, both within the confines of the substation boundary. Accordingly, ESJ has identified two routing/voltage alternatives to coincide with interconnection at the 230-kV or at the 500-kV level.

Agency Purpose and Need, Proposed Action, and Alternatives

The purpose and need for DOE's action is to decide whether to grant ESJ's application for a Presidential permit for the proposed international electric transmission line. DOE's proposed action is to issue a Presidential permit for the construction, operation, maintenance, and connection of the proposed international electric transmission line. If granted, the Presidential permit would authorize only the one-mile portion of the applicant's proposal that would be constructed and operated wholly within the United States.

Both of ESJ's proposed route alternatives would cross the U.S.-Mexico border at the same location. However, the route alternative identified as A1 in the Presidential permit application would be constructed at 500-kV and would be the eastern alternative; the other route alternative, identified as A2, would be constructed at 230-kV and be located to the west of the A1 alternative. Both alternatives would be located wholly within private property in eastern San Diego County near the unincorporated community of Jacumba. In addition to the alternatives proposed by ESJ, DOE will also consider the environmental impacts of a “No Action” alternative.

DOE originally considered an environmental assessment (EA) (to be titled Baja Wind U.S. Transmission Environmental Assessment) to be the appropriate level of review under NEPA. DOE published a Notice of Intent to Prepare an Environmental Assessment and to Conduct Public Scoping Meetings in the Federal Register on August 4, 2008 (73 FR 45218). In that notice DOE stated “if at any time during preparation of the EA DOE determines that an environmental impact statement (EIS) is needed * * * DOE will consider any comments on the scope of the EA received during [the EA scoping process] in preparing such an EIS.”

Identification of Environmental Issues

When publishing its notice of intent to prepare an EA on August 4, 2008, DOE opened a 30-day scoping period during which the public was invited to participate in the identification of potential environmental impacts that may result from construction of the ESJ transmission line project and reasonable alternatives. DOE conducted two scoping meetings in Jacumba. Nine issues and concerns were identified as a result of the scoping opportunity. These issues and concerns are (1) visual impacts, (2) avian mortality, (3) impacts to protected, threatened, endangered, or sensitive species of animals or plants, or their critical habitats, (4) impacts to cultural or historic resources, (6) impacts to human health and safety, (6) impacts to air, soil, and water, (7) land use impacts, (8) impacts of seismic activity, and (9) impacts from development of wind generation. In the EIS DOE will analyze these issues and others it finds appropriate to address, such as greenhouse gas emissions and global climate change and also intentional destructive acts, such as terrorism. No additional construction or routing alternatives were proposed as a result of the scoping process.

Several commenters in this proceeding have asked DOE to evaluate the impacts associated with activities that will occur inside Mexico (e.g., from the construction and operation in Mexico of the wind generators). NEPA does not require an analysis of environmental impacts that occur within another sovereign nation that result from approved actions by that nation. The EIS, however, will evaluate all relevant environmental impacts within the U.S. related to or caused by project-related activities in Mexico.

Based on comments received during the initial EA process, and the potential for public controversy, DOE has determined an EIS to be the proper NEPA compliance document.

EIS Preparation and Schedule

In preparing the Draft EIS, DOE will consider comments received during the scoping period. Because of previous public participation activities, DOE does not plan to conduct additional scoping meetings for this EIS. However, any timely additional written comments submitted will be considered by DOE in determining the scope of the EIS.

DOE anticipates issuing a Draft EIS in the fall of 2009. DOE will provide a public comment period of at least 45 days from the Environmental Protection Agency's (EPA's) Notice of Availability (NOA) of the Draft EIS and will hold at least one public hearing during the public comment period.

DOE will include all comments received on the Draft EIS, and responses to those comments, in the Final EIS. DOE will issue a Record of Decision no sooner than 30 days from EPA's NOA of the Final EIS.

Persons who submitted comments during the scoping process will receive a copy of the Draft EIS. Other persons who would like to receive a copy of the document for review when it is issued should notify Dr. Jerry Pell at the address provided above.

Issued in Washington, DC, on February 18, 2009.
Patricia A. Hoffman,
Acting Assistant Secretary, Office of Electricity Delivery and Energy Reliability.

[FR Doc. E9-4049 Filed 2-24-09; 8:45 am]

BILLING CODE 6450-01-P